DEPARTMENT OF COMMERCE

International Trade Administration

[A-549-813]

Canned Pineapple Fruit from Thailand: Final Results and Partial Rescission of Antidumping Duty Administrative Review

AGENCY: Import Administration, International Trade Administration, Department of Commerce.

SUMMARY: On August 8, 2005, the Department of Commerce (the Department) published in the Federal Register the preliminary results and partial preliminary rescission of the administrative review of the antidumping duty order on canned pineapple fruit from Thailand. This review covers two manufacturers/exporters: Vita Food Factory (1989) Ltd. (Vita) and Thai Pineapple Canning Industry Corp., Ltd. (TPC). The period of review (POR) is July 1, 2003, through June 30, 2004.

We provided interested parties with an opportunity to comment on the preliminary results of review. However, we received no comments from interested parties. In these final results, we have made no changes to the weighted-average dumping margins calculated for TPC and Vita in the preliminary results of this administrative review.

EFFECTIVE DATE: October 24, 2005.

FOR FURTHER INFORMATION CONTACT: Magd Zalok or Drew Jackson, AD/CVD Operations, Office 4, Import Administration, International Trade Administration, U.S. Department of Commerce, 14th and Constitution Avenue, NW., Washington, DC 20230; telephone: (202) 482-4162 or (202) 482-4406, respectively.

SUPPLEMENTARY INFORMATION:

Background

On August 8, 2005, the Department published in the Federal Register the preliminary results of the administrative review of the antidumping duty order on canned pineapple fruit from Thailand. See Canned Pineapple Fruit From Thailand: Preliminary Results of Antidumping Duty Administrative Review, 70 FR 45651 (August 8, 2005) (Preliminary Results). No interested parties filed case briefs in response to the Department's invitation to comment on the Preliminary Results.

Scope of the Order

The product covered by the order is canned pineapple fruit, defined as pineapple processed and/or prepared into various product forms, including rings, pieces, chunks, tidbits, and crushed pineapple, that is packed and cooked in metal cans with either pineapple juice or sugar syrup added. Imports of canned pineapple fruit are currently classifiable under subheadings 2008.20.0010 and 2008.20.0090 of the Harmonized Tariff Schedule of the United States (HTSUS). HTSUS 2008.20.0010 covers canned pineapple fruit packed in a sugar-based syrup; HTSUS 2008.20.0090 covers canned pineapple fruit packed without added sugar (i.e., juice-packed). The HTSUS subheadings are provided for convenience and customs purposes. The written description of the merchandise covered by this order is dispositive.

Partial Final Rescission of Review

As stated in the preliminary results of this review, the Department confirmed that Prachuab Fruit Canning Co., Ltd. (PRAFT) made no shipments of subject merchandise during the POR. Therefore, consistent with the Department's preliminary results of this review, and in accordance with 19 CFR § 351.213(d)(3), we are rescinding the instant review with respect to PRAFT.

Analysis of Comments Received

As noted above, we received no comments on the preliminary results of review. In these final results, we have made no changes to the weighted-average dumping margins calculated for TPC and Vita in the preliminary results of this administrative review.

Final Results of Review

We determine that the following weighted-average percentage margins exist for the period July 1, 2003, through June 30, 2004:

Manufacturer/Exporter | Margin (percent)
Vita Food Factory (1989) Ltd. | 9.12
Thai Pineapple Canning Industry Corp., Ltd. | 51.16

Assessment

The Department will determine, and CBP shall assess, antidumping duties on all appropriate entries. In accordance with 19 CFR § 351.212(b)(1), we calculated importer-specific assessment rates for Vita's subject merchandise. Since Vita did not report the entered value for its sales, we calculated per-unit assessment rates for its merchandise by aggregating the dumping margins calculated for all U.S. sales to each importer and dividing this amount by the total quantity of those sales. To determine whether the per-unit duty assessment rates were de minimis (i.e., less than 0.50 percent ad valorem), in accordance with the requirement set forth in 19 CFR § 351.106(c)(2), we calculated importer-specific ad valorem ratios based on export prices. Where the importer-specific assessment rate is above de minimis, we will instruct CBP to assess the importer-specific rate uniformly on all entries made during the POR. For TPC, the respondent receiving a dumping margin based upon adverse facts available (AFA), we will instruct CBP to liquidate entries according to the AFA ad valorem rate. The Department will issue appropriate assessment instructions directly to CBP within 15 days of publication of these final results of review.

Cash Deposit Requirements

The following deposit requirements will be effective for all shipments of canned pineapple fruit from Thailand entered, or withdrawn from warehouse, for consumption on or after the date of publication of these final results of review, as provided by section 751(a)(1) of the Act: (1) the cash deposit rates for Vita and TPC will be the rates shown above; (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the subject merchandise; and (4) if neither the exporter nor the manufacturer is a firm covered in this or any previous review conducted by the Department, the cash deposit rate will be the “all others” rate, which is 24.64 percent. These deposit requirements shall remain in effect until publication of the final results of the next administrative review.

Reimbursement of Duties

This notice also serves as a final reminder to importers of their responsibility under 19 CFR § 351.402(f)(2) to file a certificate regarding the reimbursement of antidumping duties prior to liquidation of the relevant entries during this review period. Failure to comply with this requirement could result in the Secretary's presumption that reimbursement of the antidumping duties occurred and the subsequent assessment of double antidumping duties.

Administrative Protective Orders

This notice also serves as a reminder to parties subject to administrative protective orders (APOs) of their responsibility concerning the return or destruction of proprietary information disclosed under APO in accordance with 19 CFR § 351.305. Timely written notification of the return/destruction of APO materials or conversion to judicial protective order is hereby requested. Failure to comply with the regulations and terms of an APO is a violation that is subject to sanction.

We are issuing and publishing these results and notice in accordance with sections 751(a)(1) and 771(i)(1) of the Tariff Act of 1930, as amended.

Dated: October 17, 2005.
Joseph A. Spetrini,
Acting Assistant Secretary for Import Administration.

[FR Doc. E5-5863 Filed 10-21-05; 8:45 am]

Billing Code: 3510-DS-S